DEPARTMENT OF AGRICULTURE

Forest Service

Beaverhead-Deerlodge National Forest, Jefferson Ranger District, Montana, Boulder River Salvage and Vegetation Management Project

AGENCY: Forest Service, USDA.

ACTION: Notice of intent to prepare an environmental impact statement.

SUMMARY: The project proposes to salvage by clearcut harvest dead and lodgepole pine infested or at risk of infestation with mountain pine beetle; use biomass removal, commercial thinning, and prescribed fire to reduce stand density on lodgepole pine and Douglas-fir stands; and remove Douglas-fir that is encroaching upon quaking aspen clones and shrublands/grasslands. Treatments would occur on about 24,940 total acres (346 total units) of National Forest System Lands north of Whitehall, MT.

DATES: Comments concerning the scope of the analysis must be received by April 30, 2012. The draft environmental impact statement is expected in May 2013 and the final environmental impact statement is expected in May 2014.

ADDRESSES: Send written comments to District Ranger, Beaverhead-Deerlodge National Forest, Butte-Jefferson Ranger District, 1820 Meadowlark Lane, Butte, MT 59701. Comments may also be sent via email to comments-northern-beaverhead-deerlodge-butte@fs.fed.us, please indicate Boulder River Project in the subject line or via facsimile to (406) 494-0269; again please indicate Boulder River Project.

FOR FURTHER INFORMATION CONTACT: Karen Gallogly, Project Coordinator, at kgallogly@fs.fed.us (406-683-3853); or Peri Suenram, Acting District Ranger at psuenram@fs.fed.us (406-494-2147).

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for this project is to harvest merchantable wood products from larger diameter lodgepole pine forested stands infested, or at risk for infestation, with bark beetles, before the value of the wood deteriorates; reduce stand density in lodgepole pine and Douglas-fir stands to maintain or improve resilient forest conditions; remove encroaching Douglas-fir from shrublands and grasslands that historically lacked conifir species; create early seral conditions in mid to higher-elevation lodgepole pine stands to improve resiliency to natural disturbances; and improve riparian-associated aspen and upland aspen clones by removing encroaching conifers to improve growing conditions.

Proposed Action

The Proposed Action would (1) salvage dead and dying lodgepole pine using clearcut harvest methods on 6,174 acres over 106 units; (2) use biomass removal to treat 2,626 acres within 36 units of younger, predominantly lodgepole pine stands, many of which have been previously harvested; (3) use a combination of commercial thinning and lodgepole pine salvage (clearcut harvest) on 439 acres in three units; (4) remove conifers for aspen restoration on 2,892 acres within 86 units; (5) use prescribed fire on 4,596 acres across 13 units in Restoration and Fish Key Watersheds that are are inoperable and unfeasible for conventional mechanized harvest; (6) non-commercially thin Douglas-fir and burn slash on 8,212 acres within 102 units.

Approximately 210 miles of existing roads would be used as haul routes within the project area and approximately 8 to16 miles of temporary roads would be constructed for access to some commercial units. No temporary roads would cross streams and all temporary roads would be obliterated after use.

Responsible Official

Forest Supervisor for the Beaverhead-Deerlodge National Forest, Dave Myers, 420 Barrett St., Dillon, MT 59725-3572.

Nature of Decision To Be Made

Given the purpose and need for the proposal the Responsible Official will decide whether or not to implement salvage harvest of dead and dying lodgepole pine infested with mountain pine beetle and which units to harvest; whether or not to reduce stand density in lodgepole pine and Douglas-fir stands, which methods to use and what units to treat; whether or not to remove encroaching conifers from grasslands and shrublands, and which units to treat; and whether or not to restore aspen clones and which units to treat.

Scoping Process

This notice of intent initiates the scoping process, which guides the development of the environmental impact statement. A scoping package, including a detailed description and map of the project will be sent to individuals, groups and organization already expressing interest in the project and anyone requesting further information.

It is important that reviewers provide their comments at such times and in such manner that they are useful to the agency's preparation of the environmental impact statement. Therefore, comments should be provided prior to the close of the comment period and should clearly articulate the reviewer's concerns and contentions.

Comments received in response to this solicitation, including names and addresses of those who comment, will become part of the public record for this proposed action. Comments submitted anonymously will be accepted and considered; however, anonymous comments will not provide the Agency with the ability to provide the respondent with subsequent environmental documents.

Dated: March 23, 2012.
Charles A Mark,
Deputy Forest Supervisor.

[FR Doc. 2012-7685 Filed 3-29-12; 8:45 am]

BILLING CODE 3410-11-P